DEPARTMENT OF HOMELAND SECURITY

Office of the Secretary

Senior Executive Service Performance Review; Correction

AGENCY: Office of the Secretary, DHS.

ACTION: Notice; correction.

SUMMARY: The Department of Homeland Security published a document in the Federal Register of September 26, 2011, regarding the appointment of the members of the Senior Executive Performance Review Boards. This correction adds the names of three individuals who were omitted from the listing.

FOR FURTHER INFORMATION CONTACT: Elizabeth Haefeli, Office of the Chief Human Capital Officer, telephone (202) 357-8164.

Correction

In the Federal Register of September 26, 2011, in FR Doc. 2011-24577, beginning on page 59417, please add the following three names to the column listing names in alphabetical order on pages 59417 and 59418:

McLaughlin, Christopher,

Shelton Waters,

Karen, Tate, Cornelius.

Dated: September 28, 2011.
Shonna R. James,
Director, Executive Resources, Office of the Chief Human Capital Officer.

[FR Doc. 2011-25610 Filed 10-4-11; 8:45 am]

BILLING CODE 9110-9B-P